DEPARTMENT OF HEALTH AND HUMAN SERVICES

Administration for Community Living

[OMB# 0985-0059]

Agency Information Collection Activities; Proposed Collection; Comment Request; Data Collection Materials for the Annual Performance Reporting of the Administration for Community Living's American Indian, Alaskan Natives and Native Hawaiian Programs

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice.

This notice solicits comments on the Revision of a Currently Approved Collection (ICR Rev) and solicits comments on the information collection requirements related to the annual Program Performance Report (PPR) for the American Indian, Alaskan Natives and Native Hawaiian Programs under Title VI of the Older Americans Act.

DATES: Comments on the collection of information must be submitted electronically by 11:59 p.m. (EST) or postmarked by October 15, 2018.

ADDRESSES: Submit electronic comments on the collection of information to: Kristen Hudgins at kristen.hudgins@acl.hhs.gov. Submit written comments on the collection of information to Administration for Community Living, Washington, DC 20201, Attention: Kristen Hudgins.

FOR FURTHER INFORMATION CONTACT: Kristen Hudgins, Social Science Analyst, Administration for Community Living, Washington, DC 20201, 202-795-7732 or kristen.hudgins@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document. With respect to the following collection of information, ACL invites comments on our burden estimates or any other aspect of this collection of information, including:

(1) Whether the proposed collection of information is necessary for the proper performance of ACL's functions, including whether the information will have practical utility;

(2) The accuracy of ACL's estimate of the burden of the proposed collection of information, including the validity of the methodology and assumptions used to determine burden estimates;

(3) Ways to enhance the quality, utility, and clarity of the information to be collected; and

(4) Ways to minimize the burden of the collection of information on respondents, including through the use of automated collection techniques when appropriate, and other forms of information technology.

The data collection materials for the annual performance data for the Administration for Community Living's American Indian, Alaskan Natives and Native Hawaiian Programs (OAA Title VI) is a revision of a currently approved annual program performance data collection (OMB# 0985-0059). These data collection materials have been updated to better align with comparable data collected for ACL's other nutritional, supportive, and caregiving grants. Proposed changes include adding data components and updating others for more accurate reporting of persons served and activities provided through the Title VI-funded programs. The revised data collection will provide data necessary to determine the effectiveness of the program. Some examples of these changes are updating definitions in Title VI to be more in line with Title III, asking for unduplicated numbers of people served for different services and the number of hours spent providing said services. Additionally, the caregiver portion of the PPR has been updated to collect more information around types of caregivers served and unduplicated numbers of caregivers. Another element added has to do with information on expenditures. This data collection will also support ACL in tracking performance outcomes and efficiency measures with respect to the annual and long-term performance targets established in compliance with the Government Performance Results Modernization Act (GPRAMA).

The proposed data collection tools may be found on the ACL website for review at https://www.acl.gov/about-acl/public-input.

Estimated Program Burden: Title VI funding is broken into three categories. Parts A and B are for nutritional and supportive programming, and ask for the same information. Part A is for American Indian and Alaska Native grantees, and Part B is for Native Hawaiian grantees. Part C is for caregiver programming. All Part C grantees must have Part A/B funding; but not all Part A/B grantees will have Part C programs. Therefore, there are 270 unique respondents, but only 237 will have to complete all portions of the PPR. ACL believes that the increase in burden hours is justified by the improved quality of the data and will ultimately improve the services provided to Native Elders.

Respondent/data collection activity | Number of respondents | Responses per respondent | Hours per response | Annual burden hours
PPR Part A/B | 270 | 1 | 1.83 | 494.1
PPR Part C | 237 | 1 | 1.66 | 393.4
Total: |  |  |  | 887.5

Dated: August 8, 2018.
Mary Lazare,
Principal Deputy Administrator.

[FR Doc. 2018-17576 Filed 8-14-18; 8:45 am]

BILLING CODE 4154-01-P